DEPARTMENT OF EDUCATION

Submission for OMB Review; Comment Request

AGENCY: Department of Education.

SUMMARY: The Director, Information Collection Clearance Division, Regulatory Information Management Services, Office of Management invites comments on the submission for OMB review as required by the Paperwork Reduction Act of 1995.

DATES: Interested persons are invited to submit comments on or before February 17, 2009.

ADDRESSES: Written comments should be addressed to the Office of Information and Regulatory Affairs, Attention: Education Desk Officer, Office of Management and Budget, 725 17th Street, NW., Room 10222, New Executive Office Building, Washington, DC 20503 or faxed to (202) 395-6974.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: January 12, 2009.
Angela C. Arrington,
IC Clearance Official, Regulatory Information Management Services, Office of Management.

Office of Innovation and Improvement

Type of Review: New.

Title: Transition to Teaching Evaluation.

Frequency: Other-At the end of the third year and end of final year of the TTT grant.

Affected Public: Not-for-profit institutions; State, Local, or Tribal Gov't, SEAs or LEAs.

Reporting and Recordkeeping Hour Burden:

Responses: 45.

Burden Hours: 45.

Abstract: This is a request for approval to collect information from Transition to Teaching (TTT) grantees that will be used to describe the extent to which local education agencies that received TTT grant funds have met the goals relating to teacher recruitment and retention described in their application. TTT grantees are funded for a period of five years. Currently, grantees are required by statute to submit an interim project evaluation to ED at the end of the third project year and a final project evaluation at the project's end. In turn, the TTT program is required to prepare and submit to the Secretary and to Congress interim and final program evaluations containing the results of these grantee project evaluation reports. An analysis of these reports has provided some data on grantee activities, but the poor quality of some reports and missing or incomplete data in others have made it difficult to aggregate data across grantees in order to accurately describe to Congress the extent of program implementation. This proposed data collection would allow ED to gather data on a common set of indicators across grantees to describe program implementation, and to investigate the conditions under which projects have been successful at recruiting, preparing and retaining highly qualified teachers in high-need schools in high-need LEAs.

Requests for copies of the information collection submission for OMB review may be accessed from http://edicsweb.ed.gov, by selecting the “Browse Pending Collections” link and by clicking on link number 3908. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-797 Filed 1-14-09; 8:45 am]

BILLING CODE 4000-01-P